DEPARTMENT OF COMMERCE

International Trade Administration

[A-570-119]

Certain Large Vertical Shaft Engines Between 225cc and 999cc, and Parts Thereof, From the People's Republic of China: Notice of Correction to the Amended Final Antidumping Duty Determination and Antidumping Duty Order

AGENCY: Enforcement and Compliance, International Trade Administration, Department of Commerce.

SUMMARY: The U.S. Department of Commerce (Commerce) is issuing a correction to a previously published Federal Register notice pertaining to the amended final antidumping duty determination and antidumping duty order on certain large vertical shaft engines between 225cc and 999cc, and parts thereof (large vertical shaft engines) from the People's Republic of China (China).

DATES: Applicable March 4, 2021.

FOR FURTHER INFORMATION CONTACT: Leo Ayala AD/CVD Operations, Office VII, Enforcement and Compliance, International Trade Administration, U.S. Department of Commerce, 1401 Constitution Avenue NW, Washington, DC 20230; telephone: (202) 482-3945.

SUPPLEMENTARY INFORMATION: On March 4, 2021, Commerce published in the Federal Register the notice of the amended final antidumping determination and antidumping duty order on large vertical shaft engines from China.¹ In the Amended Final and Order, Commerce misidentified January 4, 2021, as the date of expiration of the provisional measures period. The correct date of expiration of the provisional measures period is February 15, 2021.

¹ See Certain Large Vertical Shaft Engines Between 225cc and 999cc, and Parts Thereof, from the People's Republic of China: Amended Final Antidumping Duty Determination and Antidumping Duty Order, 86 FR 12623 (March 4, 2021) (Amended Final and Order).

We are hereby correcting the Amended Final and Order to reflect the correct date of expiration of the provisional measures period of February 15, 2021. Commerce intends to instruct CBP to terminate the suspension of liquidation and to liquidate, without regard to antidumping duties, unliquidated entries of large vertical shaft engines from China entered, or withdrawn from warehouse, for consumption after February 15, 2021, the final day on which the provisional measures were in effect, until and through the day preceding the date of publication of the International Trade Commission's final affirmative injury determination in the Federal Register.

This notice serves as a correction and is published in accordance with section 777(i) of the Tariff Act of 1930, as amended.

Dated: March 4, 2021.
Christian Marsh,
Acting Assistant Secretary for Enforcement and Compliance.

[FR Doc. 2021-04994 Filed 3-9-21; 8:45 am]

BILLING CODE 3510-DS-P